DEPARTMENT OF COMMERCE

Submission for OMB Review; Comment Request

The Department of Commerce (DOC) has submitted to the Office of Management and Budget (OMB) for clearance the following proposal for collection of information under provisions of the Paperwork Reduction Act (44 U.S.C. Chapter 35).

Agency: Technology Administration.

Title: Licensing of Government-Owned Inventions.

Agency Form Number: None.

OMB Approval Number: None.

Type of Request: Collection in use without OMB approval.

Burden: 1,200 hours.

Number of respondents: 400 Applicants.

Avg. Hours Per Response: 2 hours for applications, 15 minutes for reports.

Needs and Uses: The Bayh-Dole Act (Public Law 96-517) authorizes agencies to license their patented inventions to the public. In order to obtain a license, an application must be submitted to the agency owning the invention. The information provided (a marketing or development plan) is used by the government to negotiate the terms of the license and, when necessary, to choose between competing applications. Once awarded, the license holder must provide utilization reports. These are used by the government to ensure that the awardee is in compliance with the terms of the license.

Affected Public: Businesses or other for-profit organizations, not-for-profit institutions.

Frequency: On occasion, annually.

Respondent's Obligation: Required to obtain or retain benefits.

OMB Desk Officer: David Rostker, (202) 395-3897.

Copies of the above information collection proposal can be obtained by calling or writing Linda Engelmeier, DOC Forms Clearance Officer, (202) 482-3272, Department of Commerce, Room 5027, 14th and Constitution Avenue, N.W., Washington, DC 20230.

Written comments and recommendations for the proposed information collection should be sent to David Rostker, OMB Desk Officer, Room 10202, New Executive Office Building, 725 17th Street, N.W., Washington, D.C. 20503.

Dated: April 20, 2000.
Linda Engelmeier,
Departmental Forms Clearance Officer, Office of the Chief Information Officer.

[FR Doc. 00-10577 Filed 4-27-00; 8:45 am]

BILLING CODE 3510-18-P